BUREAU OF CONSUMER FINANCIAL PROTECTION

12 CFR Chapter X

Agency Contact Information

AGENCY: Bureau of Consumer Financial Protection.

ACTION: Final rule; technical corrections.

SUMMARY: The Consumer Financial Protection Bureau (Bureau or CFPB) is issuing this final rule to make non-substantive corrections and updates to Bureau and other Federal agency contact information found at certain locations in Regulations B, E, F, J, V, X, Z, and DD, including Federal agency contact information that must be provided with Equal Credit Opportunity Act adverse action notices and the Fair Credit Reporting Act Summary of Consumer Rights. This final rule also revises the chapter heading, makes various non-substantive changes to Regulations B and V, and provides a Bureau website address where the public may access certain APR tables referenced in Regulation Z.

DATES: The rule is effective April 19, 2023. However, the mandatory compliance date for the amendments to appendix A to Regulation B, appendix A to Regulation J, and appendix K to Regulation V is March 20, 2024. See part V for more information.

FOR FURTHER INFORMATION CONTACT: Luke Diamond, Counsel; Ruth Van Veldhuizen, Senior Counsel, Office of Regulations, at 202-435-7700 or https://reginquiries.consumerfinance.gov/. If you require this document in an alternative electronic format, please contact CFPB_Accessibility@cfpb.gov.

SUPPLEMENTARY INFORMATION:

I. Summary of Final Rule

The Bureau is making non-substantive corrections and updates to Federal agency contact information located in several regulations. This includes correcting the zip code in the Bureau's mailing address found at certain locations in Regulations B, E, J, Z, and DD; replacing the name of a former Bureau division specified at certain locations in Regulations B, E, F, X, and Z with the name of a new, expanded Bureau division or updating references to officials of the former division to instead refer more generally to Bureau officials; and updating other Federal agency contact information in appendix A to Regulation B, which must be included in Equal Credit Opportunity Act (ECOA) adverse action notices, and appendix K to Regulation V, which contains the model form of the Fair Credit Reporting Act (FCRA) Summary of Consumer Rights. The Bureau is also changing the header of 12 CFR chapter X from “Bureau of Consumer Financial Protection” to “Consumer Financial Protection Bureau,” and making various non-substantive corrections in Regulations B and V. Finally, the Bureau is updating the comment for appendix J to Regulation Z in the Official Interpretations of Regulation Z to add a URL (website address) at which the public may access a new Bureau website that contains certain APR tables. Previously, the public could only request the tables from the Bureau at its postal mailing address.

In Regulation B, implementing ECOA, the Bureau is amending appendix A, which contains Federal agency contact information that creditors must include in ECOA adverse action notices.¹ The Bureau is correcting the contact information in appendix A for the following agencies: the Bureau; the Office of the Comptroller of the Currency (OCC); the Federal Deposit Insurance Corporation (FDIC); the National Credit Union Administration (NCUA); the Department of Transportation (DOT); the Surface Transportation Board (STB); the United States Department of Agriculture, Agricultural Marketing Service (USDA-AMS); the United States Small Business Administration (SBA); the Securities and Exchange Commission (SEC); and the Federal Trade Commission (FTC). The Bureau is also correcting its own contact information in appendix D, which sets forth the process by which entities may request official Bureau interpretations of Regulation B, and removing an obsolete sentence located in section 1002.9(b)(1).

¹ In appendix A to Regulation B and appendix K to Regulation V, the contact information for some agencies includes a specific office (such as the OCC's Customer Assistance Group and the USDA-AMS's Packers and Stockyards Division). References to agencies in this notice mean the specific office of that agency if an office is designated in the relevant appendix.

In Regulation E, implementing the Electronic Fund Transfer Act (EFTA), the Bureau is correcting and updating its own contact information in appendix C, which sets forth the process by which entities may request official Bureau interpretations of Regulation E. Appendix C to Regulation E currently designates the “Associate Director and other officials of the Division of Research, Markets, and Regulations” as the officials authorized under the Act to issue official interpretations. Because the Division of Research, Markets, and Regulations no longer exists, the Bureau is updating this language to reflect that fact, and instead indicate more generally that “duly authorized officials of the Bureau” may provide official interpretations of Regulation E.

In Regulation F, implementing the Fair Debt Collection Practices Act (FDCPA), the Bureau is correcting its own contact information in appendix A, which sets forth the process by which States may apply to the Bureau to exempt a class of debt collection practices from the requirements of the FDCPA and Regulation F, and in the introduction section of Supplement I, which sets forth the process by which entities can request official interpretations of Regulation F.

In Regulation J, implementing the Interstate Land Sales Full Disclosure Act (ILSA), the Bureau is correcting its own contact information in appendix A, which contains model forms and clauses that land developers must provide to prospective land buyers under certain circumstances.

In Regulation V, implementing the FCRA, the Bureau is amending the model form in appendix K for the Summary of Consumer Rights. Consumer reporting agencies must provide a Summary of Consumer Rights when making a written disclosure of information from a consumer's file or providing a credit score to a consumer, and the FCRA also requires certain other persons to provide a Summary of Consumer Rights to consumers under specified circumstances. The Bureau is correcting the contact information in the Summary of Consumer Rights model form for the following agencies: the OCC, FDIC, NCUA, DOT, STB, USDA-AMS, and SBA. The Bureau is also amending the Summary of Consumer Rights model form to update references to obsolete business types and to make other technical corrections.

In Regulation X, implementing the Real Estate Settlement Procedures Act (RESPA), the Bureau is correcting its own contact information in the definition of “Public Guidance Documents” in section 1024.2(b), which contains the procedure by which entities can request copies of public guidance documents from the Bureau, and in the introduction section of Supplement I, which sets forth the process by which entities can request official interpretations of Regulation X.

In Regulation Z, implementing the Truth in Lending Act (TILA), the Bureau is correcting its own contact information in appendices A, B, and C. Appendix A sets forth the process by which States may request a determination from the Bureau regarding whether a State law is inconsistent with or substantially the same as TILA and Regulation Z. Appendix B sets forth the process by which States may apply to the Bureau to exempt a class of transactions from the requirements of TILA and Regulation Z. Appendix C sets forth the process by which entities may request official Bureau interpretations of Regulation Z. The Bureau is also correcting its own contact information in the comment for appendix J, located in the Official Interpretations in Supplement I. Appendix J sets forth the actuarial equations and instructions for calculating the annual percentage rate in closed-end credit transactions. The Bureau maintains Annual Percentage Rate Tables to assist in performance of these calculations, and the comment for appendix J in the Official Interpretations describes a process that entities may use to request these tables from the Bureau. In addition to correcting the Bureau's zip code in its postal address provided there, the Bureau now makes the tables available to the public on its website and is updating the comment to appendix J in the Official Interpretations to add a URL at which the public may access the website.

In Regulation DD, implementing the Truth in Savings Act (TISA), the Bureau is correcting its own contact information in appendix C, which sets forth the process by which States may request a determination from the Bureau regarding whether a State law is inconsistent with TISA and Regulation DD.

II. Background

As of July 21, 2011, title X of the Dodd-Frank Wall Street Reform and Consumer Protection Act (Dodd-Frank Act) ² transferred rulemaking authority for several consumer financial protection laws from seven Federal agencies to the Bureau. In the process of republishing the regulations implementing those laws, an incorrect zip code (20006) was mistakenly included as part of postal address contact information for the Bureau. The error appears in a limited number of locations in appendices and supplements to Regulations B, E, J, Z, and DD, including in certain forms: the list of Federal agencies' contact information in appendix A to Regulation B, which must be included in adverse action notices under ECOA; and the Sample Receipt, Agent Certification and Cancellation Page, in appendix A to Regulation J, which must be delivered to prospective lot purchasers under ILSA. The correct postal address for the Bureau is: 1700 G Street NW, Washington, DC 20552.

² Dodd-Frank Wall Street Reform and Consumer Protection Act, Public Law 111-203, tit. X, 124 Stat. 1376, 1955 (2010).

In addition, the Bureau recently completed an organizational realignment in which its Division of Research, Markets, and Regulations and portions of an office from another division were combined to create a new expanded division called Research, Monitoring, and Regulations. The Research, Markets, and Regulations' name appears in a limited number of locations in Regulations B, E, F, X, and Z, and needs to be updated.

Finally, the Bureau has been in contact with other Federal agencies referenced in the Bureau's regulations to determine whether their contact information requires updating. Eight Federal agencies requested that the Bureau correct their contact information for the ECOA adverse action notices in appendix A to Regulation B, described above, and six Federal agencies requested that the Bureau correct their contact information in the model form of the Summary of Consumer Rights in appendix K to Regulation V. One Federal agency also requested that the Bureau update references to obsolete business types in the Summary of Consumer Rights. Updated contact information and other changes to these two appendices are described in more detail in the section-by-section analysis in part IV, below.

III. Legal Authority

Rulemaking Authority

The Bureau is issuing this final rule pursuant to its authority under ECOA, EFTA, FDCPA, ILSA, FCRA, RESPA, TILA, TISA, and the Dodd-Frank Act. Section 1022(b)(1) of the Dodd-Frank Act authorizes the Bureau to prescribe “rules . . . as may be necessary or appropriate to . . . carry out the purposes and objectives of the Federal consumer financial laws, and prevent evasions thereof.” ECOA, EFTA, FDCPA, ILSA, FCRA, RESPA, TILA, and TISA are all Federal consumer financial laws,³ and each statute additionally independently authorizes the Bureau to promulgate regulations.⁴ Accordingly, the Bureau has authority to issue regulations pursuant to ECOA, EFTA, FDCPA, ILSA, FCRA, RESPA, TILA, TISA, and the Dodd-Frank Act.

³ Dodd-Frank Act section 1002(14), 12 U.S.C. 5481(14) (defining “Federal consumer financial law” to include the “enumerated consumer laws”); Dodd-Frank Act section 1002(12), 12 U.S.C. 5481(12) (defining “enumerated consumer laws” to include ECOA; EFTA, except with respect to section 920 of that Act; FDCPA; ILSA; FCRA, except with respect to sections 615(e) and 628 of that Act; RESPA; TILA; and TISA).

⁴ Regulation B, 12 CFR part 1002, implements ECOA, 15 U.S.C. 1691 et seq. pursuant to 15 U.S.C. 1691b. Regulation E, 12 CFR part 1005, implements EFTA, 15 U.S.C. 1693 et seq. pursuant to 15 U.S.C. 1693b. Regulation F, 12 CFR part 1006, implements the FDCPA, 15 U.S.C. 1692 et seq. pursuant to 15 U.S.C. 1692l(d). Regulation J, 12 CFR part 1010, implements ILSA, 15 U.S.C. 1701 et seq. pursuant to 15 U.S.C. 1718. Regulation V, 12 CFR part 1022, implements the FCRA, 15 U.S.C. 1681 et seq. pursuant to 15 U.S.C. 1681s(e). Regulation X, 12 CFR part 1024, implements RESPA, 12 U.S.C. 2601 et seq. pursuant to 12 U.S.C. 2716(a). Regulation Z, 12 CFR part 1026, implements TILA, 15 U.S.C. 1601 et seq. pursuant to 15 U.S.C. 1604(a). Regulation DD, 12 CFR part 1030, implements 12 U.S.C. 4301 et seq. pursuant to 12 U.S.C. 4308.

Procedural Requirements

Under the Administrative Procedure Act, notice and opportunity for public comment are not required if the Bureau finds for good cause that notice and public comment are impracticable, unnecessary, or contrary to the public interest.⁵ The changes made in this rulemaking correct incorrect mailing addresses for the Bureau and other government agencies, correct typographical errors, or are similar technical amendments that do not alter the substance of the regulations. The Bureau believes there is minimal, if any, basis for substantive disagreement with these amendments. As to all of these changes, the Bureau finds that notice and public comment are unnecessary.

⁵ 5 U.S.C. 553(b).

For these reasons, the Bureau has determined that publishing a notice of proposed rulemaking and providing opportunity for public comment are not required. Therefore, the amendments are adopted in final form.

IV. Section-by-Section Analysis

A. Regulation B

Section 1002.9 Notifications

9(b)

9(b)(1)

Section 1002.9(b)(1) provides model language that satisfies certain disclosure requirements of 12 CFR 1002.9(a)(2) relating to adverse action notices. These notices must include Federal agency contact information located in appendix A to Regulation B. The final sentence of § 1002.9(b)(1) permitted creditors to include Federal agency contact information as it appeared in an old version of appendix A until January 1, 2013. As that permission has now expired, the sentence is obsolete, and the Bureau is amending § 1002.9(b)(1) to remove it.

Appendix A to Part 1002—Federal Agencies To Be Listed in Adverse Action Notices

Appendix A to part 1002 provides a list of contact information for Federal agencies that creditors must include in adverse action notices pursuant to 12 CFR 1002.9(b)(1). To update Federal agencies' contact information and for the reasons discussed in part II, the Bureau is revising appendix A to part 1002.

1

The Bureau is amending paragraph 1 to correct postal address contact information for the Bureau and the FTC. The zip code will be corrected in contact information for the Bureau and contact information for the FTC will be changed from “FTC Regional Office for region in which the creditor operates or Federal Trade Commission, Equal Credit Opportunity, Washington, DC 20580” to “Federal Trade Commission, Consumer Response Center, 600 Pennsylvania Avenue NW, Washington, DC 20580.”

2

2(a)

The Bureau is amending paragraph 2(a) to correct postal address contact information for the OCC. The contact information will be changed from “Office of the Comptroller of the Currency, Customer Assistance Group, 1301 McKinney Street, Suite 3450, Houston, TX 77010-9050” to “Office of the Comptroller of the Currency, Customer Assistance Group, P.O. Box 53570, Houston, TX 77052.”

2(c)

The Bureau is amending paragraph 2(c) to correct postal address contact information for the FDIC. The contact information will be changed from “FDIC Consumer Response Center, 1100 Walnut Street, Box #11, Kansas City, MO 64106” to “Division of Depositor and Consumer Protection, National Center for Consumer and Depositor Assistance, Federal Deposit Insurance Corporation, 1100 Walnut Street, Box #11, Kansas City, MO 64106.”

2(d)

The Bureau is amending paragraph 2(d) to correct postal address contact information for the NCUA. The contact information will be changed from “National Credit Union Administration, Office of Consumer Protection, 1775 Duke Street, Alexandria, VA 22314” to “National Credit Union Administration, Office of Consumer Financial Protection, 1775 Duke Street, Alexandria, VA 22314.”

3

The Bureau is amending paragraph 3 to correct postal address contact information for the DOT. The contact information will be changed from “Assistant General Counsel for Aviation Enforcement and Proceedings, Department of Transportation, 400 Seventh Street SW, Washington, DC 20590” to “Assistant General Counsel for Office of Aviation Consumer Protection, Department of Transportation, 1200 New Jersey Avenue SE, Washington, DC 20590.”

4

The Bureau is amending paragraph 4 to correct postal address contact information for the STB. The contact information will be changed from “Office of Proceedings, Surface Transportation Board, Department of Transportation, 1925 K Street NW, Washington, DC 20423” to “Office of Public Assistance, Governmental Affairs, and Compliance, Surface Transportation Board, 395 E Street SW, Washington, DC 20423.”

5

The Bureau is amending paragraph 5 to correct contact information for the USDA-AMS. The contact information will be changed from “Nearest Packers and Stockyards Administration area supervisor” to “Nearest Packers and Stockyards Division Regional Office.”

6

The Bureau is amending paragraph 6 to correct postal office contact information for the SBA. The contact information will be changed from “Associate Deputy Administrator for Capital Access, United States Small Business Administration, 409 Third Street SW, 8th Floor, Washington, DC 20416” to “Associate Administrator, Office of Capital Access, United States Small Business Administration, 409 Third Street SW, Suite 8200, Washington, DC 20416.”

7

The Bureau is amending paragraph 7 to correct postal address contact information for the SEC. The contact information will be changed from “Securities and Exchange Commission, Washington, DC 20549” to “Securities and Exchange Commission, 100 F Street NE, Washington, DC 20549.”

9

The Bureau is amending paragraph 9 to correct postal address contact information for the FTC. The contact information will be changed from “FTC Regional Office for region in which the creditor operates or Federal Trade Commission, Equal Credit Opportunity, Washington, DC 20580” to “Federal Trade Commission, Consumer Response Center, 600 Pennsylvania Avenue NW, Washington, DC 20580.”

Appendix D to Part 1002—Issuance of Official Interpretations

2

Appendix D to part 1002 sets forth the process by which entities may request official Bureau interpretations of Regulation B that provide protections afforded under section 706(e) of ECOA. For reasons discussed in part II, the Bureau is amending paragraph 2 in appendix D to part 1002 to correct the zip code in postal address contact information for the Bureau and to replace the reference to the Division of Research, Markets, and Regulations with a reference to the new, expanded Division of Research, Monitoring, and Regulations.

B. Regulation E

Appendix C to Part 1005—Issuance of Official Interpretations

Requests for Issuance of Official Interpretations

Appendix C to part 1005 sets forth the process by which entities may request official Bureau interpretations of Regulation E that provide protections afforded under section 916(d) of EFTA. For the reasons discussed in part II, the Bureau is amending appendix C to part 1005 to correct the zip code in postal address contact information for the Bureau and to update the language referring to officials of the former Research, Markets, and Regulations Division to instead indicate more generally that duly authorized officials of the Bureau may provide official interpretations of Regulation E.

C. Regulation F

Appendix A to Part 1006—Procedures for State Application for Exemption From the Provisions of the Act

II. Application

Appendix A to part 1006 sets forth the process by which states may apply to the Bureau to exempt a class of debt collection practices within the applying State from the requirements of the FDCPA and Regulation F pursuant to section 817 of the FDCPA. For the reasons discussed in part II, the Bureau is amending appendix A to replace the reference to the Division of Research, Markets, and Regulations with a reference to the new, expanded Division of Research, Monitoring, and Regulations.

Supplement I to Part 1006—Official Interpretations

Introduction

The introduction of Supplement I to part 1006 explains the purpose of the supplement and describes the procedure by which anyone may request an official interpretation of Regulation F. For the reasons discussed in part II, the Bureau is amending the introduction to Supplement I to replace the reference to the Division of Research, Markets, and Regulations with a reference to the new, expanded Division of Research, Monitoring, and Regulations. The Bureau is also changing the addressee to contact for official interpretations of Regulation F from Associate Director, Division of Research, Markets, and Regulations to Assistant Director, Office of Regulations, Division of Research, Monitoring, and Regulations, to maintain consistency with other Bureau regulations that reference the Assistant Director, Office of Regulations as the addressee for official interpretations.

D. Regulation J

Appendix A to Part 1010—Standard and Model Forms and Clauses

Section XXVII, Receipt, Agent Certification and Cancellation Page—§ 1010.188(a)

Appendix A to part 1010 provides Standard and Model Forms and Clauses required under Regulation J, which implements ILSA. Section 1404(a)(1)(B) of ILSA prohibits the sale or lease of certain unexempted lots unless the purchaser is provided with a copy of a property report that contains certain representations about the lots and other information required under the Bureau's rules. Section 1010.118 of Regulation J requires that a receipt, agency certification, and cancellation page, formatted in accordance with section XXVII of appendix A, be attached to the property report. Included on this page is a notice that the buyer should notify the Bureau if the seller makes any representations contrary to those in the property report. For the reasons discussed in part II, the Bureau is amending section XXVII of appendix A to part 1010 to correct the zip code in postal address contact information for the Bureau.

E. Regulation V

Appendix K to Part 1022—Summary of Consumer Rights

Appendix K to part 1022 provides the model form for the Summary of Consumer Rights, which explains certain major consumer rights under the FCRA. A consumer reporting agency must provide a Summary of Consumer Rights whenever it makes a written disclosure of information from a consumer's file or provides a credit score to the consumer.⁶ The FCRA also requires certain other persons to provide a Summary of Consumer Rights to consumers under specified circumstances.⁷ To update Federal agencies' contact information and for the reasons discussed in part II, the Bureau is amending appendix K to part 1022 to correct contact information provided for the OCC, FDIC, NCUA, DOT, STB, USDA-AMS, and SBA.

⁶ 15 U.S.C. 1681g(c)(2)(A) (requirement to provide a Summary of Consumer Rights with any written file disclosure). A consumer reporting agency must also provide an employer with a Summary of Consumer Rights before furnishing a consumer report for employment purposes. 15 U.S.C. 1681b(b)(1)(B) (requirement to provide a Summary of Consumer Rights with a report for employment purposes if the Summary of Consumer Rights has not been provided previously).

⁷ See, e.g., 15 U.S.C. 1681b(b)(3) (generally requiring persons using a consumer report for employment purposes to provide the consumer with a Summary of Consumer Rights before taking any adverse action based on the report). The Bureau must also actively publicize the availability of the Summary of Consumer Rights, conspicuously post its availability on the Bureau's internet website, and promptly make it available to consumers, on request. 15 U.S.C. 1681g(c)(1)(C).

Contact information for the OCC will be changed from “Office of the Comptroller of the Currency, Customer Assistance Group, 1301 McKinney Street, Suite 3450, Houston, TX 77010-9050” to “Office of the Comptroller of the Currency, Customer Assistance Group, P.O. Box 53570, Houston, TX 77052.”

Contact information for the FDIC will be changed from “FDIC Consumer Response Center, 1100 Walnut Street, Box #11, Kansas City, MO 64106” to “Division of Depositor and Consumer Protection, National Center for Consumer and Depositor Assistance, Federal Deposit Insurance Corporation, 1100 Walnut Street, Box #11, Kansas City, MO 64106.”

Contact information for the NCUA will be changed from “National Credit Union Administration, Office of Consumer Financial Protection (OCFP), Division of Consumer Compliance Policy and Outreach, 1775 Duke Street, Alexandria, VA 22314” to “National Credit Union Administration, Office of Consumer Financial Protection, 1775 Duke Street, Alexandria, VA 22314.”

Contact information for the DOT will be changed from “Asst. General Counsel for Aviation Enforcement & Proceedings, Aviation Consumer Protection Division, Department of Transportation, 1200 New Jersey Avenue SE, Washington, DC 20590” to “Assistant General Counsel for Office of Aviation Consumer Protection, Department of Transportation, 1200 New Jersey Avenue SE, Washington, DC 20590.”

Contact information for the STB will be changed from “Office of Proceedings, Surface Transportation Board, Department of Transportation, 395 E Street SW, Washington, DC 20423” to “Office of Public Assistance, Governmental Affairs, and Compliance, Surface Transportation Board, 395 E Street SW, Washington, DC 20423.”

Contact information for the USDA-AMS will be changed from “Nearest Packers and Stockyards Administration area supervisor” to “Nearest Packers and Stockyards Division Regional Office.”

Contact information for the SBA will be changed from “Associate Deputy Administrator for Capital Access, United States Small Business Administration, 409 Third Street SW, Suite 8200, Washington, DC 20416” to “Associate Administrator, Office of Capital Access, United States Small Business Association, 409 Third Street SW, Suite 8200, Washington, DC 20416.”

The Bureau is also amending the eighth row on page four of the model form in appendix K. This entry indicates that the FCA is a point of contact for information regarding certain Farm Credit System institutions. The FCA has requested that the Bureau update the language in appendix K because certain of the listed institutions, such as Federal land banks, no longer exist. Based on the FCA's request, the Bureau is therefore changing the “TYPE OF BUSINESS” entry on the eighth row of page four from “Federal Land Banks, Federal Land Bank Associations, Federal Intermediate Credit Banks, and Production Credit Associations” to “Institutions that are members of the Farm Credit System.” ⁸

⁸ At this time, the Bureau is not making a similar change to the language in appendix A to Regulation B because appendix A to Regulation B tracks specific language in ECOA regarding the Farm Credit Administration's enforcement authority. See 15 U.S.C. 1691c(a)(6).

The Bureau is also making technical corrections to the text of the model form. The Bureau is correcting a misspelling of the word “from” on page two. The corrected text reads in relevant part: “Unsolicited `prescreened' offers for credit and insurance must include a toll-free phone number you can call if you choose to remove your name and address from the lists these offers are based on.” The Bureau is also correcting the punctuation of agencies' contact information to maintain consistent punctuation usage throughout the model form. For example, “100 F Street, N.E.” will be changed to “100 F Street NE.”

F. Regulation X

Section 1024.2 Definitions

2(b)

Public Guidance Documents

Section 1024.2(b) contains definitions for terms used in Regulation X. Accordingly, the definition of “Public Guidance Documents” in section 1024.2(b) sets forth the definition of that term, as it is used in Regulation X. In addition, it provides a Bureau mailing address by which anyone may request copies of public guidance documents from the Bureau. The Bureau is amending the definition of “Public Guidance Documents” to replace the reference to the Division of Research, Markets, and Regulations with a reference to the new, expanded Division of Research, Monitoring, and Regulations. The Bureau is also changing the addressee to contact for copies of public guidance documents from Associate Director, Division of Research, Markets, and Regulations to Assistant Director, Office of Regulations, Division of Research, Monitoring, and Regulations, to maintain consistency with other Bureau regulations that reference Assistant Director, Office of Regulations as the addressee.

Supplement I to Part 1024—Official Interpretations

Introduction

The introduction of Supplement I to part 1024 explains the purpose of the supplement and describes the procedure by which anyone may request an official interpretation of Regulation X. For the reasons discussed in part II, the Bureau is amending the introduction to Supplement I to replace the reference to the Division of Research, Markets, and Regulations with a reference to the new, expanded Division of Research, Monitoring, and Regulations. The Bureau is also changing the addressee to contact for official interpretations of Regulation X from Associate Director, Division of Research, Markets, and Regulations to Assistant Director, Office of Regulations, Division of Research, Monitoring, and Regulations, to maintain consistency with other Bureau regulations that reference the Assistant Director, Office of Regulations as the addressee for official interpretations.

G. Regulation Z

Appendix A to Part 1026—Effect of State Laws

Request for Determination

Appendix A to part 1026 sets forth the process by which states may request a determination from the Bureau regarding whether a State law is inconsistent with or substantially the same as TILA and Regulation Z pursuant to section 111(a) of TILA. For the reasons discussed in part II, the Bureau is amending appendix A to part 1026 to correct the zip code in postal address contact information for the Bureau.

Appendix B to Part 1026—State Exemptions

Application

Appendix B to part 1026 sets forth the process by which states may apply to the Bureau to exempt a class of transactions from the requirements of TILA and Regulation Z pursuant to sections 123 and 173(b) of TILA. For the reasons discussed in part II, the Bureau is amending appendix B to part 1026 to correct the zip code in postal address contact information for the Bureau.

Appendix C to Part 1026—Issuance of Official Interpretations

Requests for Issuance of Official Interpretations

Appendix C to part 1026 sets forth the process by which entities may request official Bureau interpretations of Regulation Z that provide protections afforded under section 130(f) of TILA. For the reasons discussed in part II, the Bureau is amending appendix C to part 1026 to correct the zip code in postal address contact information for the Bureau and to replace the reference to the Division of Research, Markets, and Regulations with a reference to the new, expanded Division of Research, Monitoring, and Regulations.

Appendix J—Annual Percentage Rate Computations for Closed-End Credit Transactions

Appendix J to part 1026 sets forth the actuarial equations and instructions for calculating the annual percentage rate in closed-end credit transactions. The Official Interpretation of appendix J refers to tables that creditors may use to perform the calculations. It explains that entities may request these tables from the Bureau and provides the Bureau's postal address. For the reasons discussed in part II, the Bureau is amending comment appendix J-2 in the Official Interpretation of appendix J, located in Supplement I, to correct the zip code in postal address contact information for the Bureau. In addition, the Bureau has recently made the tables available to the public on the Bureau's website. The Bureau is amending comment appendix J-2 to provide a URL at which the public may access that website.⁹

⁹ The URL is: https://www.consumerfinance.gov/compliance/compliance-resources/other-applicable-requirements/annual-percentage-rate-tables/.

H. Regulation DD

Appendix C to Part 1030—Effect on State Laws

(b) Preemption Determinations

Appendix C to part 1030 sets forth the process by which States may request a determination from the Bureau regarding whether a State law is inconsistent with TISA and Regulation DD pursuant to section 273 of TISA. For the reasons discussed in part II, the Bureau is amending paragraph (b) in appendix C to part 1030 to correct the zip code in postal address contact information for the Bureau.

I. Heading of 12 CFR Chapter X

Finally, the Bureau is updating the heading of the Bureau's chapter in the Code of Federal Regulations, 12 CFR chapter X, from “Bureau of Consumer Financial Protection” to “Consumer Financial Protection Bureau.” Using the generally recognized version of the Bureau's name will reduce the risk of public confusion.¹⁰ This change to a heading within the Code of Federal Regulations will not impose any costs on the public.

¹⁰ Congress has used both versions of the agency's name in statutes, and the difference has no legal significance. Compare, e.g., 12 U.S.C. 5491(a) with 5 U.S.C. 609(d), 12 U.S.C. 1812(a)(1), (d)(2), 3303(a), 10 U.S.C. 1144 note. The Bureau, the Federal courts, and the public overwhelmingly use “Consumer Financial Protection Bureau.” Using the less common “Bureau of Consumer Financial Protection” risks confusion when some members of the public search for the Bureau's regulations.

V. Effective Date

Consistent with the requirements of the Administrative Procedure Act, the amendments made by this final rule will take effect 30 days after publication in the Federal Register. However, to provide affected entities with adequate time to implement changes to the forms referenced in appendix A to Regulation B (ECOA adverse action notices), appendix A to Regulation J (Receipt, Agent Certification and Cancellation Page), and appendix K to Regulation V (Summary of Consumer Rights), the Bureau is allowing optional compliance with those changes until March 20, 2024. The Bureau anticipates this phase-in period will allow affected companies to make any needed modifications to the systems used to produce the forms as a part of regular updates made to those systems. Nevertheless, the Bureau encourages entities to correct their forms at the earliest feasible date to ensure consumers have accurate contact information for the relevant Federal agencies.

VI. Dodd-Frank Act Section 1022(b) Analysis

A. Overview

In developing this final rule, the Bureau has considered the rule's potential benefits, costs, and impacts, and has consulted or offered to consult with appropriate prudential banking regulators and other Federal agencies, including regarding the consistency of this rule with prudential, market, or systemic objectives administered by those agencies.¹¹

¹¹ Specifically, section 1022(b)(2)(A) of the Dodd-Frank Act requires the Bureau to consider the potential benefits and costs of a regulation to consumers and covered persons, including the potential reduction of access by consumers to consumer financial products or services, the impact on depository institutions and credit unions with $10 billion or less in total assets as described in section 1026 of the Dodd-Frank Act, and the impact on consumers in rural areas. Section 1022(b)(2)(B) of the Dodd-Frank Act directs the Bureau to consult with appropriate prudential regulators or other Federal agencies regarding consistency with prudential, market, or systemic objectives that those agencies administer. The manner and extent to which these provisions apply to a rulemaking of this kind that does not establish standards of conduct is unclear. Nevertheless, to inform this rulemaking more fully, the Bureau performed the described analyses and has consulted, or offered to consult, as indicated.

The purpose of this rule is to make non-substantive corrections and updates to Bureau and other Federal agency contact information found at certain locations in Regulations B, E, F, J, V, X, Z, and DD, including Federal agency contact information that must be provided with Equal Credit Opportunity Act adverse action notices and the Fair Credit Reporting Act Summary of Consumer Rights. This final rule also revises the header of 12 CFR chapter X, makes various non-substantive changes to Regulations B and V, and provides a Bureau website address where the public may access certain APR tables referenced in Regulation Z.

1. Description of the Baseline

The Bureau considered the benefits, costs, and impacts of this rule against a baseline in which the Bureau takes no action. In the baseline, mail addressed to the Bureau using incorrect contact information could be delayed because it may require manual handling. In addition, mail addressed using incorrect contact information specified in various Bureau regulations to other agencies, such as the OCC, may be delayed or sent back to the sender, and information concerning certain APR tables provided by the Bureau in the Official Interpretations of Regulation Z may take significantly longer to reach the public by mail than by accessing a website provided in the rule.

2. Benefits to Consumers and Covered Persons

Covered persons and consumers may benefit from the rule by preventing situations where mail to the Bureau, the OCC, or other Federal agencies is delayed or returned to the sender because of incorrect contact information as currently listed in the Bureau's regulations. The Bureau does not have data available to predict the number of such potentially misdirected communications that would be prevented, or the costs involved in handling such communications. As such, the Bureau cannot quantify the potential magnitude of these benefits.

In addition, the Bureau expects that the rule would benefit consumers by potentially preventing delays they may currently experience in receiving a response to communications they address to the Bureau, the OCC, or other Federal agencies, to the extent these delays are attributable to incorrect contact information for these agencies as currently listed in certain of the Bureau's regulations. The Bureau does not have data available to predict the magnitude of such delays consumers may experience, or the number of such communications.

The Bureau further expects that consumers and covered persons seeking to access APR information in connection with Regulation Z may be able to access it more efficiently through the URL provided in this rule than by requesting it by mail. The Bureau does not have data available to predict the magnitude of the benefits provided to consumers and covered persons as a result of making this information available through a Bureau website.

Accordingly, the Bureau cannot quantify the potential magnitude of the benefits to consumers and covered persons from the rule.

3. Costs to Covered Persons and Consumers

Covered persons may incur some costs in updating the forms and materials affected by the rule. The rule makes only technical, non-substantive changes to the existing text of certain forms and materials, and as noted in section V, the Bureau is providing covered persons with a period of one year in which to effectuate any necessary changes to the forms. The Bureau believes that this phase-in period will minimize entity costs related to the disposal of existing materials and allow entities the flexibility to make required changes as part of regular updates to their forms. The Bureau therefore believes that costs associated with the form changes required by this rule will likely be negligible.

The Bureau does not anticipate that the rule will result in costs to consumers.

B. Potential Impact on Depository Institutions and Credit Unions With $10 Billion or Less in Total Assets, as Described in Section 1026

The Bureau has no reason to believe that this final rule would have a unique impact on depository institutions and credit unions with $10 billion or less in total assets.

C. Potential Impact on Consumers in Rural Areas and on Access by Consumers to Consumer Financial Products or Services

The Bureau has no reason to believe that the final rule would have a unique impact on consumers in rural areas. Because the rule makes only technical, non-substantive changes to the existing text of several regulations, the Bureau believes that the rule would not materially affect access by consumers to consumer financial products or services.

VII. Regulatory Flexibility Act Analysis

Because no notice of proposed rulemaking is required, the Regulatory Flexibility Act does not require an initial or final regulatory flexibility analysis.¹²

¹² 5 U.S.C. 603(a), 604(a).

VIII. Paperwork Reduction Act

The Bureau has determined that this final rule does not impose any new or revise any existing recordkeeping, reporting, or disclosure requirements on covered entities or members of the public that would be new or revised collections of information requiring approval by the Office of Management and Budget under the Paperwork Reduction Act.¹³ The OMB Control Numbers associated with the collections of information contained in these regulations are:

¹³ 44 U.S.C. 3501 through 3521.

• Regulation B—3170-0013

• Regulation E—3170-0014

• Regulation F—3170-0056

• Regulation J—3170-0012

• Regulation V—3170-0002

• Regulation X—3170-0015

• Regulation Z—3170-0015

• Regulation DD—3170-0004

IX. Congressional Review Act

Pursuant to the Congressional Review Act,¹⁴ the Bureau will submit a report containing this final rule and other required information to the U.S. Senate, the U.S. House of Representatives, and the Comptroller General of the United States prior to the rule's published effective date. The Office of Information and Regulatory Affairs has designated this rule as not a “major rule” as defined by 5 U.S.C. 804(2).

¹⁴ 5 U.S.C. 801 et seq.

List of Subjects

12 CFR Part 1002

Aged, Banks, Banking, Civil rights, Consumer protection, Credit, Credit unions, Discrimination, Fair lending, Marital status discrimination, National banks, National origin discrimination, Penalties, Race discrimination, Religious discrimination, Reporting and recordkeeping requirements, Savings associations, Sex discrimination.

12 CFR Part 1005

Automated teller machines, Banks, Banking, Consumer protection, Credit unions, Electronic fund transfers, National banks, Remittances, Reporting and recordkeeping requirements, Savings Associations.

12 CFR Part 1006

Administrative practice and procedure, Consumer protection, Credit, Intergovernmental relations.

12 CFR Part 1010

Land registration; Reporting requirements; Certification of substantially equivalent state law; Purchasers' revocation rights; Unlawful sales practices; Advertising disclaimers; Filing assistance; and Adjudicatory proceedings.

12 CFR Part 1022

Banks, Banking, Consumer protection, Credit unions, Fair Credit Reporting Act, Holding companies, National banks, Privacy, Reporting and recordkeeping requirements, Savings associations, State member banks.

12 CFR Part 1024

Condominiums, Consumer protection, Housing, Insurance, Mortgages, Mortgagees, Mortgage servicing, Reporting and recordkeeping requirements.

12 CFR Part 1026

Advertising, Appraisal, Appraiser, Banking, Banks, Consumer protection, Credit, Credit unions, Mortgages, National banks, Reporting and recordkeeping requirements, Savings associations, Truth in lending.

12 CFR Part 1030

Advertising, Banking, Banks, Consumer protection, National banks, Reporting and recordkeeping requirements, Savings associations, Truth in savings.

Authority and Issuance

For the reasons set forth above, the Bureau amends 12 CFR chapter X, as set forth below:

Chapter X—Consumer Financial Protection Bureau

1. Under the authority of 12 U.S.C. 5512(b)(1), revise the heading for chapter X to read as set forth above.

PART 1002—EQUAL CREDIT OPPORTUNITY ACT (REGULATION B)

2. The authority citation for part 1002 continues to read as follows:

Authority: 12 U.S.C. 5512, 5581; 15 U.S.C. 1691b.

§ 1002.9 [Amended]

3. Section 1002.9 is amended by removing the last sentence of paragraph (b)(1).

4. Revise appendix A to read as follows:

Appendix A to Part 1002—Federal Agencies To Be Listed in Adverse Action Notices

The following list indicates the Federal agency or agencies that should be listed in notices provided by creditors pursuant to § 1002.9(b)(1). Any questions concerning a particular creditor may be directed to such agencies. This list is not intended to describe agencies' enforcement authority for ECOA and Regulation B. Terms that are not defined in the Federal Deposit Insurance Act (12 U.S.C. 1813(s)) shall have the meaning given to them in the International Banking Act of 1978 (12 U.S.C. 3101).

1. Banks, savings associations, and credit unions with total assets of over $10 billion and their affiliates: Bureau of Consumer Financial Protection, 1700 G Street NW, Washington, DC 20552. Such affiliates that are not banks, savings associations, or credit unions also should list, in addition to the Bureau: Federal Trade Commission, Consumer Response Center, 600 Pennsylvania Avenue NW, Washington, DC 20580.

2. To the extent not included in item 1 above:

a. National Banks, Federal savings associations, and Federal branches and Federal agencies of foreign banks: Office of the Comptroller of the Currency, Customer Assistance Group, P.O. Box 53570, Houston, TX 77052.

b. State member banks, branches and agencies of foreign banks (other than Federal branches, Federal agencies, and insured State branches of foreign banks), commercial lending companies owned or controlled by foreign banks, and organizations operating under section 25 or 25A of the Federal Reserve Act: Federal Reserve Consumer Help Center, P.O. Box 1200, Minneapolis, MN 55480.

c. Nonmember Insured Banks, Insured State Branches of Foreign Banks, and Insured State Savings Associations: Division of Depositor and Consumer Protection, National Center for Consumer and Depositor Assistance, Federal Deposit Insurance Corporation, 1100 Walnut Street, Box #11, Kansas City, MO 64106.

d. Federal Credit Unions: National Credit Union Administration, Office of Consumer Financial Protection (OCFP), Division of Consumer Compliance Policy and Outreach, 1775 Duke Street, Alexandria, VA 22314.

3. Air Carriers: Assistant General Counsel for Office of Aviation Consumer Protection, Department of Transportation, 1200 New Jersey Avenue SE, Washington, DC 20590.

4. Creditors Subject to Surface Transportation Board: Office of Public Assistance, Governmental Affairs, and Compliance, Surface Transportation Board, 395 E Street SW, Washington, DC 20423.

5. Creditors Subject to Packers and Stockyards Act: Nearest Packers and Stockyards Division Regional Office.

6. Small Business Investment Companies: Associate Administrator, Office of Capital Access, United States Small Business Association, 409 Third Street SW, Suite 8200, Washington, DC 20416.

7. Brokers and Dealers: Securities and Exchange Commission, 100 F Street NE, Washington, DC 20549.

8. Federal Land Banks, Federal Land Bank Associations, Federal Intermediate Credit Banks, and Production Credit Associations: Farm Credit Administration, 1501 Farm Credit Drive, McLean, VA 22102-5090.

9. Retailers, Finance Companies, and All Other Creditors Not Listed Above: Federal Trade Commission, Consumer Response Center, 600 Pennsylvania Avenue NW, Washington, DC 20580.

Appendix D to Part 1002 [Amended]

5. Appendix D to part 1002 is amended in paragraph 2 by:

a. Removing “Division of Research, Markets, and Regulations” and adding “Division of Research, Monitoring, and Regulations” in its place; and

b. Removing “20006” and adding “20552” in its place.

PART 1005—ELECTRONIC FUND TRANSFERS (REGULATION E)

6. The authority citation for part 1005 continues to read as follows:

Authority: 12 U.S.C. 5512, 5581; 15 U.S.C. 1693b. Subpart B is also issued under 12 U.S.C. 5601 and 15 U.S.C. 1693o-1.

7. Revise appendix C to read as follows:

Appendix C to Part 1005—Issuance of Official Interpretations

Official Interpretations

Interpretations of this part issued by duly authorized officials of the Bureau provide the protection afforded under section 916(d) of the Act. Except in unusual circumstances, such interpretations will not be issued separately but will be incorporated in an official commentary to this part, which will be amended periodically.

Requests for Issuance of Official Interpretations

A request for an official interpretation shall be in writing and addressed to the Bureau of Consumer Financial Protection, 1700 G Street NW, Washington, DC 20552. The request shall contain a complete statement of all relevant facts concerning the issue, including copies of all pertinent documents.

Scope of Interpretations

No interpretations will be issued approving financial institutions' forms or statements. This restriction does not apply to forms or statements whose use is required or sanctioned by a government agency.

PART 1006—DEBT COLLECTION PRACTICES (REGULATION F)

8. The authority citation for part 1006 continues to read as follows:

Authority: 12 U.S.C. 5512, 5514(b), 5532; 15 U.S.C. 1692l(d), 1692o, 7004.

Appendix A to Part 1006 [Amended]

9. Appendix A to part 1006 is amended:

a. In the second sentence of section II, by removing “Division of Research, Markets, and Regulations” and adding “Division of Research, Monitoring, and Regulations” in its place; and

b. In the first sentence of section VI(b)(i), by removing “Division of Research, Markets, and Regulations” and adding “Division of Research, Monitoring, and Regulations” in its place.

10. Supplement I is amended by revising the introduction to read as follows:

Supplement I to Part 1006—Official Interpretations

Introduction

1. Official status. This commentary is the vehicle by which the Bureau of Consumer Financial Protection supplements Regulation F, 12 CFR part 1006. The provisions of the commentary are issued under the same authorities as the corresponding provisions of Regulation F and have been adopted in accordance with the notice-and-comment procedures of the Administrative Procedure Act (5 U.S.C. 553). Unless specified otherwise, references in this commentary are to sections of Regulation F or the Fair Debt Collection Practices Act, 15 U.S.C. 1692 et seq. No commentary is expected to be issued other than by means of this Supplement I.

2. Procedure for requesting interpretations. Anyone may request that an official interpretation of the regulation be added to this commentary. A request for such an official interpretation must be in writing and addressed to the Assistant Director, Office of Regulations, Division of Research, Monitoring, and Regulations, Bureau of Consumer Financial Protection, 1700 G Street NW, Washington, DC 20552. The request must contain a complete statement of all relevant facts concerning the issue, including copies of all pertinent documents. Revisions to this commentary that are adopted in accordance with the rulemaking procedures of section 553 of the Administrative Procedure Act (5 U.S.C. 553) will be incorporated in the commentary following publication in the Federal Register.

3. Comment designations. Each comment in the commentary is identified by a number and the regulatory section or paragraph that it interprets. The comments are designated with as much specificity as possible according to the particular regulatory provision addressed. For example, comments to § 1006.6(d)(4) are further divided by subparagraph, such as comment 6(d)(4)(i)-1 and comment 6(d)(4)(ii)-1. Comments that have more general application are designated, for example, as comments 38-1 and 38-2. This introduction may be cited as comments I-1, I-2, and I-3.

* * * * *

PART 1010—LAND REGISTRATION (REGULATION J)

11. The authority citation for part 1010 continues to read as follows:

Authority: 12 U.S.C. 5512, 5581; 15 U.S.C. 1718.

Appendix A to Part 1010 [Amended]

12. Appendix A to part 1010 is amended in section XXVII, in the address for Bureau of Consumer Financial Protection, before “Agent Certification,” by removing “20006” and adding “20552” in its place.

PART 1022—FAIR CREDIT REPORTING (REGULATION V)

13. The authority citation for part 1022 continues to read as follows:

Authority: 12 U.S.C. 5512, 5581; 15 U.S.C. 1681a, 1681b, 1681c, 1681c-1, 1681c-3, 1681e, 1681g, 1681i, 1681j, 1681m, 1681s, 1681s-2, 1681s-3, and 1681t; Sec. 214, Pub. L. 108-159, 117 Stat. 1952.

14. Revise appendix to read as follows:

Appendix K to Part 1022—Summary of Consumer Rights

The prescribed form for this summary is a disclosure that is substantially similar to the Bureau's model summary with all information clearly and prominently displayed. The list of Federal regulators that is included in the Bureau's prescribed summary may be provided separately so long as this is done in a clear and conspicuous way. A summary should accurately reflect changes to those items that may change over time (e.g., dollar amounts, or telephone numbers and addresses of Federal agencies) to remain in compliance. Translations of this summary will be in compliance with the Bureau's prescribed model, provided that the translation is accurate and that it is provided in a language used by the recipient consumer.

BILLING CODE 4810-AM-P

PART 1024—REAL ESTATE SETTLEMENT PROCEDURES ACT (REGULATION X)

15. The authority citation for part 1024 continues to read as follows:

Authority: 12 U.S.C. 2603-2605, 2607, 2609, 2617, 5512, 5532, 5581.

§ 1024.2 [Amended]

16. Section 1024.2 is amended in paragraph (b) in the last sentence of the definition of “Public Guidance Documents” by removing “Associate Director, Research, Markets, and Regulations” and adding “Assistant Director, Office of Regulations, Division of Research, Monitoring, and Regulations” in its place.

17. Supplement I is amended by revising the introduction to read as follows:

Supplement I to Part 1024—Official Bureau Interpretations

Introduction

1. Official status. This commentary is the primary vehicle by which the Bureau of Consumer Financial Protection issues official interpretations of Regulation X. Good faith compliance with this commentary affords protection from liability under section 19(b) of the Real Estate Settlement Procedures Act (RESPA), 12 U.S.C. 2617(b).

2. Requests for official interpretations. A request for an official interpretation shall be in writing and addressed to the Assistant Director, Office of Regulations, Division of Research, Monitoring, and Regulations, Bureau of Consumer Financial Protection, 1700 G Street NW, Washington, DC 20552. A request shall contain a complete statement of all relevant facts concerning the issue, including copies of all pertinent documents. Except in unusual circumstances, such official interpretations will not be issued separately but will be incorporated in the official commentary to this part, which will be amended periodically. No official interpretations will be issued approving financial institutions' forms or statements. This restriction does not apply to forms or statements whose use is required or sanctioned by a government agency.

3. Unofficial oral interpretations. Unofficial oral interpretations may be provided at the discretion of Bureau staff. Written requests for such interpretations should be sent to the address set forth for official interpretations. Unofficial oral interpretations provide no protection under section 19(b) of RESPA. Ordinarily, staff will not issue unofficial oral interpretations on matters adequately covered by this part or the official Bureau interpretations.

4. Rules of construction. (a) Lists that appear in the commentary may be exhaustive or illustrative; the appropriate construction should be clear from the context. In most cases, illustrative lists are introduced by phrases such as “including, but not limited to,” “among other things,” “for example,” or “such as.”

(b) Throughout the commentary, reference to “this section” or “this paragraph” means the section or paragraph in the regulation that is the subject of the comment.

5. Comment designations. Each comment in the commentary is identified by a number and the regulatory section or paragraph that the comment interprets. The comments are designated with as much specificity as possible according to the particular regulatory provision addressed. For example, some of the comments to § 1024.37(c)(1) are further divided by subparagraph, such as comment 37(c)(1)(i)-1. In other cases, comments have more general application and are designated, for example, as comment 40(a)-1. This introduction may be cited as comments I-1 through I-5.

* * * * *

PART 1026—TRUTH IN LENDING (REGULATION Z)

18. The authority citation for part 1026 continues to read as follows:

Authority: 12 U.S.C. 2601, 2603-2605, 2607, 2609, 2617, 3353, 5511, 5512, 5532, 5581; 15 U.S.C. 1601 et seq.

Appendix A to Part 1026 [Amended]

19. Appendix A to part 1026 is amended in the first sentence of the first paragraph immediately after the subheading Request for Determination by removing “20006” and adding “20552” in its place.

Appendix B to Part 1026 [Amended]

20. Appendix B to part 1026 is amended in the “Application” section in the second sentence by removing “20006” and adding “20552” in its place.

Appendix C to Part 1026 [Amended]

21. Appendix C to part 1026 is amended under “Requests for Issuance of Official Interpretations” by:

a. Removing “Division of Research, Markets, and Regulations” and adding “Division of Research, Monitoring, and Regulations” in its place; and

b. Removing “20006” and adding “20552” in its place.

22. Supplement I is amended by revising paragraphs 1 and 2 under “Appendix J—Annual Percentage Rate Computations for Closed-End Credit Transactions” to read as follows:

Supplement I to Part 1026—Official Interpretations

* * * * *

Appendix J—Annual Percentage Rate Computations for Closed-End Credit Transactions

1. Use of appendix J. Appendix J sets forth the actuarial equations and instructions for calculating the annual percentage rate in closed-end credit transactions. While the formulas contained in this appendix may be directly applied to calculate the annual percentage rate for an individual transaction, they may also be utilized to program calculators and computers to perform the calculations.

2. Relation to Bureau tables. The Bureau's Annual Percentage Rate Tables also provide creditors with a calculation tool that applies the technical information in appendix J. An annual percentage rate computed in accordance with the instructions in the tables is deemed to comply with the regulation. Volume I of the tables may be used for credit transactions involving equal payment amounts and periods, as well as for transactions involving any of the following irregularities: odd first period, odd first payment and odd last payment. Volume II of the tables may be used for transactions that involve any type of irregularities. These tables may be obtained from the Bureau, 1700 G Street NW, Washington, DC 20552, upon request. The tables are also available on the Bureau's website at: https://www.consumerfinance.gov//resources/applicable-requirements/annual-percentage-rate-tables/.

* * * * *

PART 1030—TRUTH IN SAVINGS (REGULATION DD)

23. The authority citation for part 1030 continues to read as follows:

Authority: 12 U.S.C. 4302-4304, 4308, 5512, 5581.

Appendix C to Part 1030 [Amended]

24. Appendix C to part 1030 is amended in the second sentence of paragraph (b) by removing “20006” and adding “20552” in its place.

Rohit Chopra,
Director, Consumer Financial Protection Bureau.

[FR Doc. 2023-05216 Filed 3-17-23; 8:45 am]

BILLING CODE 4810-AM-C